DEPARTMENT OF COMMERCE

Bureau of the Census

[Docket Number 130814715-3715-01]

Bureau of the Census Geographically Updated Population Certification Program (GUPCP)

AGENCY: Bureau of the Census, Department of Commerce.

ACTION: Notice of program reinstatement.

SUMMARY: Effective October 1, 2013, the Bureau of the Census (Census Bureau) will resume processing applications for certified decennial census population and housing unit counts in updated governmental unit boundaries. This service, known as the Geographically Updated Population Certification Program (GUPCP), was suspended on January 1, 2008, to accommodate the taking of the 2010 Census (see Notice of Suspension, 72 Fed. Reg. 46602 (Aug. 21, 2007)). The resumption of this service will provide for certification of 2010 Census population and housing unit counts in governmental unit boundaries legally effective after the 2010 Census geographic benchmark date of January 1, 2010. While the program was originally scheduled for reinstatement in the year 2012, resource demands have delayed its relaunch until 2013. Resumption of the program continues a fee-based service that the Census Bureau has provided since the 1970s. Additional program details, including the schedule of fees and application instructions, are accessible on the Census Bureau's Web site at: www.census.gov/mso/www/certification.

DATES: Effective Date: October 1, 2013.

FOR FURTHER INFORMATION CONTACT: Mr. Darryl Cohen, Population Division, U.S. Census Bureau, 4600 Silver Hill Road, Washington, DC 20233-8800, (301) 763-2419, or email (Darryl.T.Cohen@census.gov).

SUPPLEMENTARY INFORMATION: Following the 1970 decennial census and every decennial census thereafter, the Census Bureau has provided the opportunity for county, local, and tribal governments to obtain certified population and housing unit counts for areas where the boundaries have changed from those used to tabulate the results of the immediately preceding decennial census. These changes occur due to newly created governmental units (incorporations), additions to existing governmental units (annexations), the combination of two existing governmental units (merger), or other circumstances. Such governmental units are established by law for the purpose of implementing specified general- or special-purpose governmental functions; the certification process is available to both. Most governmental units have legally established boundaries and names and have officials (usually elected) who have the power to carry out legally prescribed functions, provide services for residents, and raise revenues. These are commonly referred to as general-purpose governmental units and typically include counties, boroughs, cities, towns, villages, townships, and federally recognized American Indian reservations. Special-purpose governmental units typically are limited to one function, such as school districts. The Census Bureau is issuing this notice to reinstate the GUPCP as a centralized system for certifying population and housing counts. This service will be a permanent process, but one that will be temporarily suspended during future decennial censuses. Typically, the Census Bureau will suspend this service, and direct its resources to the decennial census, for a total of five years—the two years preceding the decennial census, the decennial census year, and the two years following it. The Census Bureau will issue notices in the Federal Register announcing when it suspends and, in turn, resumes the service.

The Census Bureau first began to certify decennial census population counts for updated governmental unit boundaries in 1972 in response to the request of local governments to establish eligibility for participation in the General Revenue Sharing Program, authorized under Public Law 92-152. At that time, the Census Bureau established a fee-based program, enabling governmental units with annexations to obtain updated decennial census population counts that included the population living in annexed areas. The Census Bureau also received funding from the U.S. Department of the Treasury to make those determinations for larger annexations that met prescribed criteria and for newly formed general-purpose governmental units.

The General Revenue Sharing Program ended on September 30, 1986, but the certification program continued into 1988 with support from the Census Bureau. The program was suspended to accommodate the taking of the 1990 decennial census and resumed in 1992. The Census Bureau supported the program through fiscal year 1995 for cities with large annexations and through fiscal year 1996 for newly incorporated places. The program was continued on a fee-basis only until June 1, 1998, at which time it was suspended for the 2000 decennial census (see Notice of Suspension, 63 FR 27706 (May 20, 1998)). At that time, it was stated that the program would resume in three years; however, resumption was delayed by continuing resource demands of the 2000 decennial census. In 2002, the program resumed and continued until January 1, 2008, when it was suspended to accommodate the taking of the 2010 Census (see 72 FR 46602 (Aug. 21, 2007)).

Although there is no legal requirement that the Census Bureau provide this service, there is a demand by governmental units for 2010 Census population and housing counts certified to reflect boundary updates or the formation of new governmental units dated after January 1, 2010, (the legally effective date for boundaries used in tabulating the 2010 Census). Title 13, United States Code (U.S.C.), Section 8, allows the Census Bureau to continue this program by providing certain statistical materials (certified population and housing counts) upon payment of costs for the service. The Census Bureau is the sole provider of this service, which is based on processing individual 2010 Census enumeration records protected by the confidentiality restrictions of Title 13, U.S.C.

A geographically updated population certification from the Census Bureau confirms that an official population count is an accurate retabulation of the 2010 Census population as configured for the new boundaries. A population certification may be needed for many reasons. For example, general-purpose governments may be required by state law to produce a Census Bureau population certification for funds disbursement from their respective states, or federally sponsored programs may require or honor a Census Bureau population certification for program eligibility. Special-purpose governmental units also may need official certification of census population and housing counts for other purposes.

The Census Bureau is reinstating a fee-based program that will use current geographic and demographic programs to support customer requests. The final fee structure will reflect variations in resources needed to meet customer requirements for certifications of standard governmental units, and will be posted on the Census Bureau's Web site at: www.census.gov/mso/www/certification. The fees will depend on the extent of geographic processing tasks required to complete the certification request and on the urgency of the request. There are two types of fees, based upon whether the population certificate is generated through an annually scheduled geographic update process, or is expedited in order to meet customer needs. Requests for certifications must contain information on Form BC- 1869(EF), “Request for Geographically Updated Official Population Certification” (see the Census Bureau's Web site, www.census.gov/mso/www/certification). Local governments may submit requests for certifications on Form BC-1869(EF) to the Census Bureau by email at Clmso.Certify.List@census.gov or via fax at (301) 763-3842. Form BC-1869(EF) will be available on the Census Bureau's Web site at: http://www.census.gov/mso/www/certification. A letter or email communication requesting the service without Form BC-1869(EF) will be accepted only if it contains the information necessary to complete a Form BC-1869(EF).

Paperwork Reduction Act

Notwithstanding any other provision of law, no person is required to respond to, nor shall a person be subject to a penalty for failure to comply with, a collection of information subject to the requirements of the Paperwork Reduction Act (PRA), Title 44, U.S.C., Chapter 35, unless that collection of information displays a current Office of Management and Budget control number. This notice does not represent a collection of information and is not subject to the PRA's requirements. The form referenced in the notice, Form BC-1869(EF), will collect only information necessary to process a certification request. As such, it is not subject to the PRA's requirements.

Dated: August 29, 2013.
John H. Thompson,
Director, Bureau of the Census.

[FR Doc. 2013-21736 Filed 9-5-13; 8:45 am]

BILLING CODE 3510-07-P